SECURITIES AND EXCHANGE COMMISSION

[Release No. 34-84972; File No. SR-CboeBYX-2018-014]

Self-Regulatory Organizations; Cboe BYX Exchange, Inc.; Notice of Designation of Longer Period for Commission Action on Proposed Rule Change To Make Permanent Rule 11.24, Which Sets Forth the Exchange's Pilot Retail Price Improvement Program

December 26, 2018.

On July 30, 2018, Cboe BYX Exchange, Inc. (the “Exchange” or “BYX”) filed with the Securities and Exchange Commission (“Commission”), pursuant to Section 19(b)(1) of the Securities Exchange Act of 1934 (“Act”) ¹ and Rule 19b-4 thereunder,² a proposed rule change to make permanent Rule 11.24, which sets forth the Exchange's pilot Retail Price Improvement Program. The proposed rule change was published for comment in the Federal Register on August 17, 2018.³ On September 27, 2018, the Commission designated a longer period within which to approve the proposed rule change, disapprove the proposed rule change, or institute proceedings to determine whether to disapprove the proposed rule change.⁴ On November 15, 2018, the Commission instituted proceedings under Section 19(b)(2)(B) of the Act ⁵ to determine whether to approve or disapprove the proposed rule change.⁶ The Commission has received no comments on the proposal.

¹ 15 U.S.C. 78s(b)(1).

² 17 CFR 240.19b-4.

³ See Securities Exchange Act Release No. 83831 (August 13, 2018), 83 FR 41128.

⁴ See Securities Exchange Act Release No. 84297, 83 FR 49959 (October 3, 2018). The Commission designated November 15, 2018, as the date by which the Commission shall approve or disapprove, or institute proceedings to determine whether to disapprove, the proposed rule change.

⁵ 15 U.S.C. 78(s)(b)(2)(B).

⁶ See Securities Exchange Act Release No. 84600, 83 FR 58802 (November 21, 2018).

Section 19(b)(2) of the Act ⁷ provides that, after initiating proceedings, the Commission shall issue an order approving or disapproving the proposed rule change not later than 180 days after the date of publication of notice of filing of the proposed rule change. The Commission may, however, extend the period for issuing an order approving or disapproving the proposed rule change by not more than 60 days if the Commission determines that a longer period is appropriate and publishes the reasons for such determination. The proposed rule change was published for notice and comment in the Federal Register on August 17, 2018.⁸ February 13, 2019 is 180 days from that date, and April 14, 2019 is 240 days from that date. The Commission finds it appropriate to designate a longer period within which to issue an order approving or disapproving the proposed rule change so that it has sufficient time to consider the proposed rule change.⁹

⁷ 15 U.S.C. 78s(b)(2).

⁸ See supra note 3.

⁹ The Commission notes that on December 11, 2018, the Exchange filed a proposed rule change to extend the pilot period to June 30, 2019. See Securities Exchange Act Release No. 84830, 83 FR 65769 (December 21, 2018) (SR-CboeBYX-2018-025).

Accordingly, the Commission, pursuant to Section 19(b)(2) of the Act,¹⁰ a designates April 14, 2019, as the date by which the Commission shall approve or disapprove the proposed rule change (File No. SR-CboeBYX-2018-014).

¹⁰ 15 U.S.C. 78s(b)(2).

¹¹ 17 CFR 200.30-3(a)(31).

For the Commission, by the Division of Trading and Markets, pursuant to delegated authority.¹¹
Eduardo A. Aleman,
Deputy Secretary.

[FR Doc. 2019-00482 Filed 1-30-19; 8:45 am]

BILLING CODE 8011-01-P